DEPARTMENT OF JUSTICE

[OMB Number 1110-0043]

Agency Information Collection Activities; Proposed eCollection eComments Requested; Revision of a Previously Approved Collection; Title—Voluntary Appeal File (VAF) Application Form

AGENCY: Criminal Justice Information Services Division, Federal Bureau of Investigation, Department of Justice.

ACTION: 60-Day notice.

SUMMARY: The Department of Justice, Federal Bureau of Investigation, Criminal Justice Information Services Division will be submitting the following information collection request to the Office of Management and Budget (OMB) for review and approval in accordance with the Paperwork Reduction Act of 1995.

DATES: Comments are encouraged and will be accepted for 60 days until November 17, 2025.

FOR FURTHER INFORMATION CONTACT: If you have additional comments especially on the estimated public burden or associated response time, suggestions, or need a copy of the proposed information collection instrument with instructions or additional information, please contact Jill Montgomery, FBI NICS Section, 1000 Custer Hollow Road, Clarksburg, WV 26306, jamontgomery@fbi.gov or 304-709-1476.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility.

—Evaluate the accuracy of the agency's estimate of the burden of the proposed collection of information, including the validity of the methodology and assumptions used.

—Evaluate whether and if so, how the quality, utility, and clarity of the information to be collected can be enhanced; and

—Minimize the burden of the collection of information on those who are to respond, including using appropriate automated, electronic, mechanical, or other technological collection techniques or other forms of information technology, e.g., permitting electronic submission of responses.

Abstract: If a potential purchaser is delayed or denied a firearm and successfully appeals the decision, the NICS Section cannot retain a record of the overturned appeal or the supporting documentation. If the record is not able to be updated or the appeal was overturned because fingerprint submissions determined the prohibiting record did not match the, the purchaser may continue to be delayed or denied for future transactions, and if that individual appeals the decision, the documentation/information (e.g., fingerprint cards, court records, pardons, etc.) must be resubmitted for every subsequent appeal. The VAF was established per 28 CFR part 25.10(g), for this reason. By this process, applicants can voluntarily request the NICS Section maintain information about themselves in the VAF to prevent future extended delays or denials of a firearm transfer. Those approved for entry into the VAF will be issued a unique personal identification number or “UPIN”. The applicant must then provide their VAF UPIN to the FFL during future NICS checks. The VAF UPIN can also prevent similar results in other contexts where the NICS may be queried, such as when applying to receive a National Firearms Act firearm (see 28 CFR 25.6(j)(2)) or soon, during a “firearm handler background check” (see 89 FR 100424). The VAF is also open to persons that have never been the subject of a NICS check to preemptively prevent erroneous denials or extended delays.

Overview of This Information Collection

1. Type of Information Collection: Revision of a previously approved collection.

2. The Title of the Form/Collection: Voluntary Appeal File (VAF) Application Form.

3. The agency form number, if any, and the applicable component of the Department sponsoring the collection: Voluntary Appeal File (VAF) Application Form, 1110-0043. The applicable component within the Department of Justice is the Federal Bureau of Investigation, Criminal Justice Information Services Division.

4. Affected public who will be asked or required to respond, as well as the obligation to respond: Affected Public Individuals. The obligation to respond is voluntary.

5. An estimate of the total number of respondents and the amount of time estimated for an average respondent to respond: It is estimated the time it takes to read, complete, and upload documents is 30 minutes. Travel time to the fingerprinting facility and post office is not factored in the time estimate. It is estimated 11,073 respondents will apply yearly.

6. An estimate of the total annual burden (in hours) associated with the collection: With 11,073 applicants responding, the formula for applicant burden hours would be as follows: (11,073 respondents × .5 hours) = 5,536.5 hours.

7. An estimate of the total annual cost burden associated with the collection, Total Burden Hours: Some applications are processed quickly while others can take up to 60 days, dependent on the complexity of the case. For instance, should it be determined the applicant was not a match to any prohibiting category based on submitted fingerprints, the application could be resolved within one day. Conversely, should the applicant match potential prohibiting categories based on fingerprint comparison, each potential prohibitor requires research, likely external, and could include multiple agencies in multiple locations. In those cases, the process could take up to 60 days. For these reasons, it is difficult to determine an annual hour burden to process a VAF application.

If additional information is required contact: Darwin Arceo, Department Clearance Officer, United States Department of Justice, Justice Management Division, Policy and Planning Staff, Two Constitution Square, 145 N Street NE, 4W-218, Washington, DC.

Dated: September 15, 2025.
Darwin Arceo,
Department Clearance Officer for PRA, U.S. Department of Justice.

[FR Doc. 2025-17954 Filed 9-16-25; 8:45 am]

BILLING CODE 4410-02-P